DEPARTMENT OF JUSTICE

Antitrust Division

Notice Pursuant to the National Cooperative Research and Production Act of 1993—Portland Cement Association (“PCA”)

Notice is hereby given that, on June 27, 2000, pursuant to Section 6(a) of the National Cooperative Research and Production Act of 1993, 15 U.S.C. 4301 et seq. (“the Act”), Portland Cement Association (“PCA”) has filed written notifications simultaneously with the Attorney General and the Federal Trade Commission disclosing changes in its membership status. The notifications were filed for the purpose of extending the Act's provisions limiting the recovery of antitrust plaintiffs to actual damages under specified circumstances. Specifically, Illinois Cement Company, LaSalle, IL and CSR Rinker Materials, West Palm Beach, FL have been added as members of this venture, and Expanded Shale Clay & Slate Institute, Salt Lake City, UT has become an Affiliate Member. Also, ABB Industrial Systems, Columbus, OH has changed its name to ABB Automation Inc.; and North Star Cement Limited, Cornerbrook, Newfoundland, CANADA and Fuel & Combustion Technology International, Malvern, PA have been dropped as members of this venture.

No other changes have been made in either the membership or planned activity of this group research project. Membership in the project remains open, and PCA intends to file additional written notification disclosing all changes in membership.

On January 7, 1985, PCA filed its original notification pursuant to Section 6(a) of the Act. The Department of Justice published a notice in the Federal Register pursuant to Section 6(b) of the Act on February 5, 1985 (50 FR 5015).

The last notification was filed with the Department on February 14, 2000. A notice was published in the Federal Register pursuant to Section 6(b) of the Act on July 11, 2000 (65 FR 42726).

Constance K. Robinson,
Director of Operations, Antitrust Division.

[FR Doc. 00-20315 Filed 8-10-00; 8:45 am]

BILLING CODE 4410-11-M